DEPARTMENT OF ENERGY

Federal Energy Regulatory Commission

[Project No. 4428-011]

Walden Hydro, LLC; Notice of Waiver of Water Quality Certification

On May 29, 2020, Walden Hydro, LLC (Walden Hydro) filed an application for a new license for the Walden Hydroelectric Project (project) in the above captioned docket. On April 1, 2021, Walden Hydro filed with the New York State Department of Environmental Conservation a request for water quality certification for the project under section 401(a)(1) of the Clean Water Act.

On April 15, 2021, staff provided the certifying authority with written notice pursuant to 40 CFR 121.6(b) that the applicable reasonable period of time for the state to act on the certification request was one (1) year from the date of receipt of the request, and that the certification requirement for the license would be waived if the certifying authority failed to act by April 1, 2022. Because the state did not act by April 1, 2022, we are notifying you pursuant to 40 CFR 121.9(c), and section 401(a)(1) of the Clean Water Act, 33 U.S.C. 1341(a)(1), that waiver of the certification requirement has occurred.

Dated: April 29, 2022.
Kimberly D. Bose,
Secretary.

[FR Doc. 2022-09637 Filed 5-4-22; 8:45 am]

BILLING CODE 6717-01-P